DEPARTMENT OF THE INTERIOR

National Park Service

[NPS-WASO-NAGPRA-NPS0027158; PPWOCRADN0-PCU00RP14.R50000]

Notice of Intent To Repatriate Cultural Items: New York State Museum, Albany, NY

AGENCY: National Park Service, Interior.

ACTION: Notice.

SUMMARY: The New York State Museum, in consultation with the appropriate Indian Tribes or Native Hawaiian organizations, has determined that the cultural item listed in this notice meets the definition of objects of cultural patrimony. Lineal descendants or representatives of any Indian Tribe or Native Hawaiian organization not identified in this notice that wish to claim this cultural item should submit a written request to the New York State Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the New York State Museum at the address in this notice by March 11, 2019.

ADDRESSES: Lisa Anderson, NAGPRA Coordinator, New York State Museum, 3049 Cultural Education Center, Albany, NY 12230, telephone (518) 486-2020, email lisa.anderson@nysed.gov.

SUPPLEMENTARY INFORMATION: Notice is here given in accordance with the Native American Graves Protection and Repatriation Act (NAGPRA), 25 U.S.C. 3005, of the intent to repatriate cultural items under the control of the New York State Museum, Albany, NY that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

In the late nineteenth century, one cultural item was acquired by the New York State Museum through Harriet Maxwell Converse (E-37417). The one cultural item is a wampum belt known as the Ransom wampum belt. It is composed of six rows of purple beads interspersed with white beads forming five diagonal bands and two white open hexagons. The wampum belt is strung on leather warps with thread wefts and mounted on linen backing. The wampum belt measures 24¾ inches long and 1¾ inches wide.

Museum records indicate Converse identified the Ransom wampum belt as “Onondaga.” She reported that this wampum belt was used by women as ransom to spare the life of a prisoner. As such, the Ransom wampum belt symbolizes the role of women in the adoption of captives.

The records of the New York State Museum establish the cultural affiliation of this wampum belt with the Haudenosaunee Confederacy, and specifically with the Onondaga Nation. Based on consultation with the Onondaga Nation, the Ransom wampum belt is an object of cultural patrimony, as it relates to the civil functions of a Council.

Determinations Made by the New York State Museum

Officials of the New York State Museum have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the object of cultural patrimony and the Onondaga Nation.

Additional Requestors and Disposition

Lineal descendants or representatives of any Indian Tribe or Native Hawaiian organization not identified in this notice that wish to claim this cultural item should submit a written request with information in support of the claim to Lisa Anderson, NAGPRA Coordinator, New York State Museum, 3049 Cultural Education Center, Albany, NY 12230, telephone (518) 486-2020, email lisa.anderson@nysed.gov, by March 11, 2019. After that date, if no additional claimants have come forward, transfer of control of the object of cultural patrimony to the Onondaga Nation may proceed.

The New York State Museum is responsible for notifying the Onondaga Nation that this notice has been published.

Dated: December 11, 2018.
Melanie O'Brien,
Manager, National NAGPRA Program.

[FR Doc. 2019-01616 Filed 2-7-19; 8:45 am]

BILLING CODE 4312-52-P